DEPARTMENT OF TRANSPORTATION

Federal Highway Administration

Notice to Rescind the Notice of Intent to Develop the Environmental Impact Statement: Kings County, NY

AGENCY: Federal Highway Administration (FHWA), United States Department of Transportation (DOT).

ACTION: Notice to Rescind the Notice of Intent.

SUMMARY: The FHWA is issuing this notice to advise the public that the FHWA will not be preparing an Environmental Impact Statement (EIS) for the proposed project involving approximately 1.5 miles of the Brooklyn-Queens Expressway (BQE), Interstate 278 (I-278) in Kings County, New York (Project Identification Number X730.56). This segment of the BQE extends from Atlantic Avenue to Sands Street and encompasses 21 structures including a unique 0.4 mile triple cantilever structure. A Notice of Intent to prepare an EIS was published in the Federal Register on April 20, 2009.

FOR FURTHER INFORMATION CONTACT: Jonathan D. McDade, Division Administrator, Federal Highway Administration, New York Division, Leo W. O'Brien Federal Building, 11A Clinton Avenue, Suite 719, Albany, New York 12207, Telephone: (518) 431-4127; or

Mr. Phillip Eng, P.E., Regional Director, New York State Department of Transportation, Hunters Point Plaza, 47-40 21st Street, Long Island City, New York 11101, Telephone: (718) 482-4526.

SUPPLEMENTARY INFORMATION: The FHWA, in cooperation with the New York State Department of Transportation previously intended to prepare a tiered EIS to evaluate alternatives and make corridor level decisions regarding the rehabilitation or reconstruction of the existing facility and to identify a general alignment and corridor for proposed improvements along the Brooklyn Queens Expressway in Kings County, New York, from Sands Street on the east to Atlantic Avenue on the west.

The purpose of the original Project was to address various geometric, operational, and structural deficiencies associated with the structure.

The final scoping document issued in May 2010, identified a range of alternatives that would be evaluated. Further evaluation of the alternatives documented with the Draft Alternatives Evaluation Technical Memorandum, identified order of magnitude cost range from $280 million for simple rehabilitation project to $20 billion tunnel alternatives. All build alternatives require funds exceeding those available for the foreseeable future.

The NYSDOT proposes terminating the Tier 1 EIS for this project. Proposed future projects will continue necessary State of Good Repair projects to structures, roadways, and appurtenances, to ensure the continued safe operation of this important roadway corridor. With this approach, future plans for the roadway may be addressed in a comprehensive manner as funds become available.

Issued on November 16, 2011.
Jonathan D. McDade,
New York Division Administrator, Federal Highway Administration.

[FR Doc. 2011-30448 Filed 11-28-11; 8:45 am]

BILLING CODE 4910-22-P